DEPARTMENT OF HOMELAND SECURITY

Citizenship and Immigration Services

RIN 1615-ZA44

[DHS Docket No. USCIS-2006-0066]

Changes to the Regional, District and Field Office Organizational Structure Within U.S. Citizenship and Immigration Services

AGENCY: U.S. Citizenship and Immigration Services, Department of Homeland Security.

ACTION: Notice.

SUMMARY: This notice informs the public of changes to U.S. Citizenship and Immigration Services' (USCIS') regional, district and field office organizational structure due to a recent realignment of the command and control responsibilities within USCIS' Domestic Operations Directorate, Field Operations Division. This action is necessary to balance the workload and personnel among USCIS field offices and improve customer service. USCIS does not plan to close any of its existing offices as a result of this realignment.

DATES: This notice is effective November 22, 2006.

FOR FURTHER INFORMATION CONTACT: David Gulick, Chief of Staff, Domestic Operations Directorate, U.S. Citizenship and Immigration Services, Department of Homeland Security, 20 Massachusetts Avenue, NW., 3rd Floor, Washington, DC 20529, telephone (202) 272-2700.

SUPPLEMENTARY INFORMATION:

I. Background.

Upon its establishment in 2003, USCIS inherited legacy Immigration and Naturalization Service's (legacy INS's) domestic field office structure consisting of 3 regions and 33 districts. USCIS' workload and workforce distribution, however, varies greatly from that of legacy INS. Consequently, the continuation of the legacy INS field office structure resulted in an unbalanced USCIS field office chain of command structure with one region having a larger workforce than the other two regions combined, and the largest districts having workforces up to 50 times larger than other districts.

In addition, within the pre-existing chain of command, in those districts with multiple field offices, the district director served as the office manager for one of the field offices while also managing the other field offices within the district. This dual role has been an obstacle to overall management of a district.

Moreover, under the pre-existing organizational structure, each regional office, district office, field office or sub-office had an assigned geographic area of responsibility. A field office manager could not exercise any power or authority over a matter that involved a customer whose place of residence or employment was located outside of his or her geographical area of responsibility, absent an express delegation of such authority by the appropriate USCIS official. In the adjudications context, rigid jurisdictional boundaries based on geography have led to situations where the USCIS office that is physically located closer to a customer's residence or place of employment does not have geographical jurisdiction to provide the customer with the requested service.

In view of the aforementioned considerations, USCIS has made a determination to realign the domestic operations field office command and control structure. This realignment is effective November 22, 2006.

II. Realignment

Under this realignment, the following are the changes to the command and control structure within USCIS Domestic Operations Directorate, Field Operations Division.

Field Offices, Districts, and Regions

The keystones of USCIS' in-person services are its local offices. USCIS field offices exist based on the geographic distribution of workload requiring in-person services. No USCIS field office will be closed as a result of this realignment, nor will this realignment change the locations of any of the existing USCIS local offices. For clarity, USCIS will refer to each of these offices as a “field office,” managed by a “field office director,” rather than “district office,” managed by a “district director.” Field offices will continue to be responsible for the administration and enforcement of the Immigration and Nationality Act and all other laws relating to immigration and naturalization.

Where USCIS determines that an interview is necessary, it will schedule the applicant's interview at the appropriate field office. While most information and customer services are provided through the USCIS Web-site and toll-free customer service telephone number, individuals who believe they need in-person service can also use their zip code to make an appointment on-line at the appropriate office. Individuals without internet access can contact any USCIS office in-person for assistance in making an appointment. Using zip codes, rather than the current geographic jurisdictional alignment, to determine service areas will allow USCIS to shift interviews and other in-person services to the most convenient field office.

While the realignment does not change the locations of USCIS field offices, it does change the command structure for managing these field offices. USCIS will maintain a district management structure to lead a network of field offices. Each field office will be managed by a field office director who reports to a District Director. In the previous structure, the district director was both the field office director as well as the manager of a district that, in many cases, included additional field offices. The new structure allows the District Director to focus on the management of the district. Further, to achieve better balance in terms of the size of the operations managed by each district, the overall number of district offices will be reduced from 33 to 26. While primarily a consolidation of district management structures, the 26 district offices will include 2 new district offices created by splitting the existing San Francisco and Miami districts each into 2 districts.

Similarly, to achieve better balance and span of control, USCIS is increasing from 3 management regional offices to 4 management regional offices. The fourth regional office will be established in Orlando, Florida to manage USCIS operations in the Southeast. Establishing this new regional office also gives USCIS a regional office closer to the Caribbean, and thus improves USCIS capability to respond to events there.

Field Office Structure

Accordingly, the following is the USCIS' Domestic Operations field office management structure. While management districts will be identified by number rather than by location, the list also indicates (by asterisk) the city where the district manager will be located:

District 1

Boston, Massachusetts*

Manchester, New Hampshire

Portland, Maine

Providence, Rhode Island

District 2

Albany, New York

Buffalo, New York*

Hartford, Connecticut

St. Albans, Vermont

District 3

New York City, New York*

District 4

Mt. Laurel, New Jersey

Newark, New Jersey*

District 5

Philadelphia, Pennsylvania*

Pittsburgh, Pennsylvania

District 6

Baltimore, Maryland*

District 7

Fairfax, Virginia*

Norfolk, Virginia

District 8

Atlanta, Georgia*

Charleston, South Carolina

Charlotte, North Carolina

Raleigh, North Carolina (under development)

District 9

Charlotte Amalie, Virgin Islands

Miami, Florida*

San Juan, Puerto Rico

District 10

Jacksonville, Florida

Orlando, Florida

Tampa, Florida*

West Palm Beach, Florida

District 11

Fort Smith, Arkansas

Memphis, Tennessee

New Orleans, Louisiana*

District 12

Detroit, Michigan*

District 13

Cincinnati, Ohio

Cleveland, Ohio*

Columbus, Ohio

Indianapolis, Indiana

Louisville, Kentucky

District 14

Chicago, Illinois*

Milwaukee, Wisconsin

District 15

Des Moines, Iowa

Kansas City, Missouri*

Omaha, Nebraska

St. Louis, Missouri

St. Paul, Minnesota

District 16

Dallas, Texas*

Oklahoma City, Oklahoma

District 17

Houston, Texas*

District 18

El Paso, Texas

Harlingen, Texas

San Antonio, Texas*

District 19

Albuquerque, New Mexico

Boise, Idaho

Denver, Colorado*

Helena, Montana

Salt Lake City, Utah

District 20

Anchorage, Alaska

Portland, Oregon

Seattle, Washington*

Spokane, Washington

Yakima, Washington

District 21

San Francisco, California*

San Jose, California

District 22

Fresno, California

Sacramento, California*

District 23

Los Angeles, California*

San Bernardino, California

Santa Ana, California

District 24

San Diego, California*

District 25

Las Vegas, Nevada

Phoenix, Arizona *

Reno, Nevada

Tucson, Arizona

District 26

Hagatna, Guam

Honolulu, Hawaii

Regional Structure

USCIS will maintain its existing regional offices in:

• Burlington, VT, which will manage Districts 1 through 7, and be referred to as the Northeast Region;

• Dallas, TX, which will manage Districts 12 through 19, and be known as the Central Region; and in

• Laguna Niguel, CA, which will manage Districts 20 through 26, and be known as the Western Region.

USCIS will establish the new regional office in:

• Orlando, FL which will manage Districts 8 through 11, and will be known as the Southeast Region. While this regional office is in the process of being established, the Northeast Region will provide support.

Dated: November 15, 2006.
Jonathan Scharfen,
Deputy Director, U.S. Citizenship and Immigration Services.

[FR Doc. E6-19697 Filed 11-21-06; 8:45 am]

BILLING CODE 4410-10-P